FEDERAL COMMUNICATIONS COMMISSION

47 CFR Part 2

[ET Docket No. 24-121, DA 24-396; FR ID 227746]

Expanded Federal Use of the Non-Federal FSS and MSS Bands

AGENCY: Federal Communications Commission.

ACTION: Proposed rule.

SUMMARY: In this document, the Office of Engineering and Technology opens a new docket and seeks comment on ways to potentially expand Federal access to non-Federal, including commercial, satellite services.

DATES: Interested parties may file comments on or before July 31, 2024; and reply comments on or before August 30, 2024. All filings must refer to ET Docket No. 24-121.

ADDRESSES: Pursuant to sections 1.415 and 1.419 of the Commission's rules, 47 CFR 1.415, 1.419, interested parties may file comments on or before the dates provided in the DATES section of this Proposed Rule. Comments may be filed using the Commission's Electronic Comment Filing System (ECFS). You may submit comments, identified by ET Docket No. 24-121 and referencing this public notice, by any of the following methods:

• Electronic Filers: Comments may be filed electronically using the internet by accessing the ECFS: https://www.fcc.gov/ecfs/.

• Paper Filers: Parties who choose to file by paper must file an original and one copy of each filing.

• Filings can be sent by hand or messenger delivery, by commercial overnight courier, or by First-Class or overnight U.S. Postal Service mail. All filings must be addressed to the Commission's Secretary, Office of the Secretary, Federal Communications Commission.

• All hand-delivered or messenger-delivered paper filings for the Commission's Secretary are accepted between 8:00 a.m. and 4:00 p.m. at 9050 Junction Drive, Annapolis Junction, MD 20701. All hand deliveries must be held together with rubber bands or fasteners. Any envelopes and boxes must be disposed of before entering the building.

• Commercial overnight deliveries (other than U.S. Postal Service Express Mail and Priority Mail) must be sent to 9050 Junction Drive, Annapolis Junction, MD 20701.

• U.S. Postal Service First-Class, Express, and Priority mail must be addressed to Secretary, Federal Communications Commission, 45 L Street NE, Washington, DC 20554.

• People with Disabilities: Contact the Commission to request reasonable accommodations (accessible format documents, sign language interpreters, CART, etc.) by email: FCC504@fcc.gov or phone: 202-418-0530 or TTY: 202-418-0432.

• Availability of Documents: Comments and ex parte submissions will be available via ECFS. Documents will be available electronically in ASCII, Microsoft Word, and/or Adobe Acrobat.

FOR FURTHER INFORMATION CONTACT: Nicholas Oros of the Office of Engineering and Technology, at Nicholas.Oros@fcc.gov or 202-418-0636.

SUPPLEMENTARY INFORMATION: This is a summary of the Office of Engineering and Technology's Public Notice in ET Docket No. 24-121, DA 24-396, released April 26, 2024. The full text of this document is available for public inspection at the following internet address: https://www.fcc.gov/document/oet-seeks-comment-expanded-federal-use-non-federal-bands.

Initial Regulatory Flexibility Act Analysis. The 2013 NPRM (FCC 13-65, 78 FR 39200) and 2021 FNPRM (FCC 21-44, 86 FR 30860) included Initial Regulatory Flexibility Analyses (IRFA) pursuant to 5 U.S.C. 603, exploring the potential impact on small entities of the Commission's proposals. The Office of Engineering and Technology invite parties to file comments on the IRFAs in light of this request for supplemental comments.

Paperwork Reduction Act Analysis. This document does not contain any new or modified information collection requirements subject to the Paperwork Reduction Act of 1995, Public Law 104-13. Thus, it does not contain any new or modified information collection burden for small business concerns with fewer than 25 employees, pursuant to the Small Business Paperwork Relief Act of 2002, Public Law 107-198, see 44 U.S.C. 3506(c)(4).

Ex Parte Presentations. The Commission has treated this proceeding as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with rule 1.1206(b). In proceedings governed by rule 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

Providing Accountability Through Transparency Act: The Providing Accountability Through Transparency Act, Public Law 118-9, requires each agency, in providing notice of a rulemaking, to post online a brief plain-language summary of the proposed rule. The required summary of this Public Notice is available at https://www.fcc.gov/proposedrulemakings.

Synopsis

The Office of Engineering and Technology invites interested parties to supplement the record with additional comments in this new docket, ET Docket No. 24-121, on possible mechanisms to expand Federal use of the bands used by commercial satellite networks that are not currently allocated for the Federal fixed satellite service (FSS) and mobile satellite service (MSS). Consistent with the Commission's direction to OET in the 2023 Second Report and Order (FCC 23-76, adopted Sept. 21, 2023), the record compiled in response to this Public Notice will be considered in conjunction with the existing record on this issue compiled in ET Docket No. 13-115 and RM-11341, which the Office of Engineering and Technology incorporates herein by reference. In particular, the Office of Engineering and Technology invites commenters to supplement the record on possible approaches to providing Federal earth stations with interference protection when those earth stations are communicating with commercial satellites in bands that are not allocated for Federal FSS and MSS. As noted above, the 2013 NPRM (FCC 13-65, 78 FR 39200) proposed to add a co-primary Federal FSS or MSS allocation to several bands together with an allocation table footnote that limits primary Federal use of the bands to earth stations communicating with non-Federal space stations. The 2013 NPRM alternatively proposed to add a footnote to the Allocation Table outlining circumstances under which Federal earth stations operating with non-Federal space stations would be entitled to interference protection. The Office of Engineering and Technology seeks renewed comment on these proposals. The Office of Engineering and Technology also seeks comment on whether there should be any additional modifications to the Allocation Table in connection with either proposal.

The Satellite Industry Association (SIA) suggested an alternative to the 2013 NPRM's two proposals for providing Federal earth stations with interference protected access to spectrum bands that lack a Federal FSS and MSS allocation. SIA proposed that FSS and MSS allocations be added to the Federal portion of the Allocation Table for these bands along with an indication that the Federal allocation is limited to earth stations only. In addition, SIA proposed adding a footnote to the Allocation Table for these bands indicating that the Commission has exclusive regulatory jurisdiction over the co-primary allocations and that NTIA is responsible for assignments for Federal earth stations authorized to operate in the bands pursuant to the Commission's Part 25 rules. The Office of Engineering and Technology invites commenters to address SIA's proposal as well as any alternative approaches that could be used to provide Federal earth stations with interference-protected access to commercial satellite services. Finally, the Office of Engineering and Technology seeks comment on whether implementing any of these proposals might inhibit future repurposing of these bands or expansion of non-Federal operations and, if so, any approaches that might avoid such inhibition.

As the 2021 FNPRM (FCC 21-44, 86 FR 30860) recognized, the spectral landscape in non-Federal FSS and MSS allocations has significantly changed since the 2013 NPRM. As a result, the Office of Engineering and Technology seeks to refresh the record on which FSS and MSS frequency bands that are not allocated for Federal FSS and MSS might meet the needs of Federal agencies for communications with non-Federal satellites. As the Commission first noted in 2013, providing Federal earth stations with interference protection may require that new non-Federal stations, whether satellite earth stations or terrestrial stations, be coordinated with existing Federal earth stations in the FSS and MSS frequency bands to which any new rules would apply. This coordination may require additional effort by non-Federal station applicants and could restrict the locations and operating parameters of new non-Federal stations. Does any future impact on non-Federal operations outweigh the benefits of expanding Federal users' access to these bands? The 2013 NPRM proposed to implement agreed-upon procedures that would be followed by the Commission and NTIA to ensure parity between Federal and non-Federal earth stations that are similar to the procedures currently used by the Commission to coordinate new non-Federal earth stations. Would the procedures discussed in the 2013 NPRM be appropriate for coordination between Federal earth stations and non-Federal stations?

Federal Communications Commission.
Ronald T. Repasi,
Chief, Office of Engineering and Technology.

[FR Doc. 2024-14196 Filed 6-28-24; 8:45 am]

BILLING CODE 6712-01-P